DEPARTMENT OF DEFENSE

Office of the Secretary

Defense Business Board; Notice of Federal Advisory Committee Meeting

AGENCY: Chief Management Officer, Department of Defense (DoD).

ACTION: Notice of Federal Advisory Committee meeting.

SUMMARY: The DoD is publishing this notice to announce that the following Federal Advisory Committee meeting of the Defense Business Board will take place.

DATES: Wednesday, May 6, 2020, from 2:40 p.m. to 5:00 p.m.

ADDRESSES: Due to the current guidance on combating the Coronavirus, the meeting will be conducted telephonically only. To participate in the meeting, see the Meeting Accessibility paragraph in the SUPPLEMENTARY INFORMATION section for instructions.

FOR FURTHER INFORMATION CONTACT: Jennifer Hill, (571) 342-0070 (Voice), jennifer.s.hill4.civ@mail.mil (Email). Mailing address is Defense Business Board, 1155 Defense Pentagon, Room 5B1088A, Washington, DC 20301-1155. Website: http://dbb.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Due to circumstances beyond the control of the DoD and the Designated Federal Officer, the Defense Business Board was unable to provide public notification required by 41 CFR 102-3.150(a) concerning the May 6, 2020 meeting of the Defense Business Board. Accordingly, the Advisory Committee Management Officer for the Department of Defense, pursuant to 41 CFR 102-3.150(b), waives the 15-calendar day notification requirement.

This meeting is being held under the provisions of the Federal Advisory Committee Act (FACA) (5 U.S.C.), the Government in the Sunshine Act (5 U.S.C. 552b), and 41 CFR 102-3.140 and 102-3.150.

Purpose of the Meeting: The mission of the Board is to examine and advise the Secretary of Defense on overall DoD management and governance. The Board provides independent advice which reflects an outside private sector perspective on proven and effective best business practices that can be applied to DoD. The CMO Assessment Task Group will present their findings and recommendations to the full Board for deliberation and vote.

Agenda

Administrative Session

1:00-1:05 p.m. Welcome—Jennifer Hill, Executive Director/Designated Federal Officer (DFO)

1:05-1:15 p.m. Chairman's Time/New Member Introductions—Hon. Michael Bayer, Chairman

1:15-2:00 p.m. CMO Update—Hon. Lisa W. Hershman, Chief Management Officer

2:00-2:30 p.m. Living Better Using Data—Jim Traficant, Partner, The Pinkston Group

2:30-2:40 p.m. Break

Open Session

2:40-2:45 p.m. Opening Remarks—Designated Federal Officer

2:45-4:15 p.m. Study: “Section 904 Assessment of the DoD Chief Management Officer”

4:15-4:25 p.m. Public Comments (if time permits)

4:25-4:55 p.m. Board Deliberations and Vote

4:55-5:00 p.m. Closing Remarks—Designated Federal Officer

Meeting Accessibility: Pursuant to FACA and 41 CFR 102-3.140, that portion of the meeting from 2:40 p.m. to 5:00 p.m. is open to the public. Persons desiring to participate in the meeting via teleconference are required to submit their name, organization, and email contact information to the Board at osd.pentagon.odam.mbx.defense-business-board@mail.mil not later than 4:30 p.m. on Tuesday, May 5, 2020. Specific dial in instructions for participating in the meeting will be provided by reply email. The meeting agenda and task group presentation will be made available prior to the meeting on the Board's website at: https://dbb.defense.gov/Meetings/Meeting-May-2020/.

Written Statements: Written comments on this, or any other Defense Business Board related topic, may be submitted to the Designated Federal Officer via email to mailbox address: osd.pentagon.odam.mbx.defense-business-board@mail.mil in either Adobe Acrobat or Microsoft Word format. Comments received 24 hours prior to the scheduled meeting will be presented during the meeting, if time allows. After such time the statement will be distributed to the membership for their review and attached as a tab to the final study. Please note that because the Board operates under the provisions of the FACA, all submitted comments will be treated as public documents and will be made available for public inspection, including, but not limited to, being posted on the Board's website.

Dated: April 30, 2020.
Aaron T. Siegel,
Alternate OSD Federal Register Liaison Officer, Department of Defense.

[FR Doc. 2020-09569 Filed 5-4-20; 8:45 am]

BILLING CODE 5001-06-P